DEPARTMENT OF COMMERCE

International Trade Administration

[A-570-952, A-583-844, C-570-953]

Narrow Woven Ribbons With Woven Selvedge From the People's Republic of China and Taiwan: Continuation of Antidumping Duty Orders and Countervailing Duty Order

AGENCY: Enforcement and Compliance, International Trade Administration, Department of Commerce.

SUMMARY: As a result of the determinations by the Department of Commerce (Commerce) and the International Trade Commission (ITC) that revocation of the antidumping duty (AD) orders on narrow woven ribbons with woven selvedge (NWRs) from the People's Republic of China (China) and Taiwan and the countervailing duty (CVD) order on NWRs from China would likely lead to continuation or recurrence of dumping and net countervailable subsidies, and material injury to an industry in the United States, Commerce is publishing this notice of continuation of the AD orders and the CVD order.

DATES: Applicable March 10, 2022.

FOR FURTHER INFORMATION CONTACT: Reginald Anadio or Thomas Martin, AD/CVD Operations, Office IV, Enforcement and Compliance, International Trade Administration, U.S. Department of Commerce, 1401 Constitution Avenue NW, Washington, DC 20230; telephone: (202) 482-3166 or (202) 482-3936, respectively.

SUPPLEMENTARY INFORMATION:

Background

On September 1, 2010, Commerce published in the Federal Register the AD orders on NWRs from China and Taiwan,¹ and the CVD order on NWRs from China.² On August 2, 2021, Commerce published the notice of initiation of the sunset reviews of the AD Orders and the CVD Order, pursuant to section 751(c) of the Tariff Act of 1930, as amended (the Act).³ Commerce conducted expedited (120-day) sunset reviews of these orders, pursuant to section 751(c)(3)(B) of the Act and 19 CFR 351.218(e)(1)(ii)(C)(2).

¹ See Notice of Antidumping Duty Orders: Narrow Woven Ribbons With Woven Selvedge from Taiwan and the People's Republic of China: Antidumping Duty Orders, 75 FR 53632 (September 1, 2010), as amended in Narrow Woven Ribbons With Woven Selvedge from Taiwan and the People's Republic of China: Amended Antidumping Duty Orders, 75 FR 56982 (September 17, 2010) (collectively, AD Orders).

² See Narrow Woven Ribbons With Woven Selvedge from the People's Republic of China: Countervailing Duty Order, 75 FR 53642 (September 1, 2010) (CVD Order).

³ See Initiation of Five-Year (Sunset) Review, 86 FR 41439 (August 2, 2021).

As a result of its reviews, Commerce determined, pursuant to sections 751(c)(1) and 752(c) of the Act, that revocation of the AD Orders would likely lead to continuation or recurrence of dumping, and that revocation of the CVD Order would likely lead to continuation or recurrence of countervailable subsidies.⁴ Commerce, therefore, notified the ITC of the magnitude of the dumping margins and net countervailable subsidy rates likely to prevail should the AD Orders and the CVD Order be revoked.⁵ On March 10, 2022, the ITC published its determination, pursuant to section 751(c) of the Act, that revocation of the AD Orders and the CVD Order would likely lead to continuation or recurrence of material injury to an industry in the United States within a reasonably foreseeable time.⁶

⁴ See Narrow Woven Ribbons With Woven Selvedge from the People's Republic of China and Taiwan: Final Results of the Antidumping Duty Orders, 86 FR 63335 (November 16, 2021); see also Narrow Woven Ribbons With Woven Selvedge from the People's Republic of China: Final Results of the Expedited Second Five-Year Sunset Review of the Countervailing Duty Order, 86 FR 68637 (December 3, 2021).

⁵ Id.

⁶ See Narrow Woven Ribbons With Woven Selvedge from China and Taiwan, Inv. No. 701-TA-467 and 731-TA-1164-1165 (Second Review), 87 FR 13755 (March 10, 2022).

Scope of the AD Orders and the CVD Order

The merchandise covered by the scope of the AD Orders and CVD Order is narrow woven ribbons with woven selvedge, in any length, but with a width (measured at the narrowest span of the ribbon) less than or equal to 12 centimeters, composed of, in whole or in part, man‐made fibers (whether artificial or synthetic, including but not limited to nylon, polyester, rayon, polypropylene, and polyethylene teraphthalate), metal threads and/or metalized yarns, or any combination thereof.

Narrow woven ribbons subject to the AD Orders and CVD Order may:

• Also include natural or other non-man-made fibers;

• Be of any color, style, pattern, or weave construction, including but not limited to single‐faced satin, double-faced satin, grosgrain, sheer, taffeta, twill, jacquard, or a combination of two or more colors, styles, patterns, and/or weave constructions;

• Have been subjected to, or composed of materials that have been subjected to, various treatments, including but not limited to dyeing, printing, foil stamping, embossing, flocking, coating, and/or sizing;

• Have embellishments, including but not limited to appliqué, fringes, embroidery, buttons, glitter, sequins, laminates, and/or adhesive backing;

• Have wire and/or monofilament in, on, or along the longitudinal edges of the ribbon; Have ends of any shape or dimension, including but not limited to straight ends that are perpendicular to the longitudinal edges of the ribbon, tapered ends, flared ends or shaped ends, and the ends of such woven ribbons may or may not be hemmed;

• Have longitudinal edges that are straight or of any shape, and the longitudinal edges of such woven ribbon may or may not be parallel to each other;

• Consist of such ribbons affixed to like ribbon and/or cut‐edge woven ribbon, a configuration also known as an “ornamental trimming;”

• Be wound on spools; attached to a card; hanked (i.e., coiled or bundled); packaged in boxes, trays or bags; or configured as skeins, balls, bateaus or folds; and/or

• Be included within a kit or set such as when packaged with other products, including but not limited to gift bags, gift boxes and/or other types of ribbon.

Narrow woven ribbons with woven selvedge subject to the AD Orders and CVD Order include all narrow woven fabrics, tapes, and labels that fall within this written description of the scope of the AS Orders and CVD Order.

Excluded from the scope of the AD Orders and CVD Order are the following:

(1) Formed bows composed of narrow woven ribbons with woven selvedge;

(2) “pull-bows” (i.e., an assemblage of ribbons connected to one another, folded flat and equipped with a means to form such ribbons into the shape of a bow by pulling on a length of material affixed to such assemblage) composed of narrow woven ribbons;

(3) narrow woven ribbons comprised at least 20 percent by weight of elastomeric yarn (i.e., filament yarn, including monofilament, of synthetic textile material, other than textured yarn, which does not break on being extended to three times its original length and which returns, after being extended to twice its original length, within a period of five minutes, to a length not greater than one and a half times its original length as defined in the (HTSUS, Section XI, Note 13) or rubber thread;

(4) narrow woven ribbons of a kind used for the manufacture of typewriter or printer ribbons;

(5) narrow woven labels and apparel tapes, cut-to-length or cut-to-shape, having a length (when measured across the longest edge-to-edge span) not exceeding eight centimeters;

(6) narrow woven ribbons with woven selvedge attached to and forming the handle of a gift bag;

(7) cut-edge narrow woven ribbons formed by cutting broad woven fabric into strips of ribbon, with or without treatments to prevent the longitudinal edges of the ribbon from fraying (such as by merrowing, lamination, sono-bonding, fusing, gumming or waxing), and with or without wire running lengthwise along the longitudinal edges of the ribbon;

(8) narrow woven ribbons comprised at least 85 percent by weight of threads having a denier of 225 or higher;

(9) narrow woven ribbons constructed from pile fabrics (i.e., fabrics with a surface effect formed by tufts or loops of yarn that stand up from the body of the fabric);

(10) narrow woven ribbon affixed (including by tying) as a decorative detail to non-subject merchandise, such as a gift bag, gift box, gift tin, greeting card or plush toy, or affixed (including by tying) as a decorative detail to packaging containing non-subject merchandise;

(11) narrow woven ribbon that is (a) affixed to non-subject merchandise as a working component of such non-subject merchandise, such as where narrow woven ribbon comprises an apparel trimming, book marker, bag cinch, or part of an identity card holder, or (b) affixed (including by tying) to non-subject merchandise as a working component that holds or packages such non-subject merchandise or attaches packaging or labeling to such non-subject merchandise, such as a “belly band” around a pair of pajamas, a pair of socks or a blanket;

(12) narrow woven ribbon(s) comprising a belt attached to and imported with an item of wearing apparel, whether or not such belt is removable from such item of wearing apparel; and

(13) narrow woven ribbon(s) included with non-subject merchandise in kits, such as a holiday ornament craft kit or a scrapbook kit, in which the individual lengths of narrow woven ribbon(s) included in the kit are each no greater than eight inches, the aggregate amount of narrow woven ribbon(s) included in the kit does not exceed 48 linear inches, none of the narrow woven ribbon(s) included in the kit is on a spool, and the narrow woven ribbon(s) is only one of multiple items included in the kit.

The merchandise subject to the AD Orders and CVD Order is classifiable under the HTSUS statistical categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9891. The HTSUS statistical categories and subheadings are provided for convenience and customs purposes; however, the written description of the merchandise covered by the AD Orders and CVD Order is dispositive.

Continuation of the Orders

As a result of the determinations by Commerce and the ITC that revocation of the AD Orders and the CVD Order would likely lead to continuation or recurrence of dumping, countervailable subsidies, and material injury to an industry in the United States, pursuant to section 751(d)(2) of the Act and 19 CFR 351.218(a), Commerce hereby orders the continuation of the AD Orders and the CVD Order. U.S. Customs and Border Protection will continue to collect AD and CVD cash deposits at the rates in effect at the time of entry for all imports of subject merchandise. The effective date of the continuation of the orders will be the date of publication in the Federal Register of this notice of continuation. Pursuant to section 751(c)(2) of the Act and 19 CFR 351.218(c)(2), Commerce intends to initiate the next sunset review of the AD Orders and the CVD Order not later than 30 days prior to the fifth anniversary of the effective date of continuation.

Notification to Interested Parties

These five-year (sunset) reviews and this notice are in accordance with sections 751(c) and 751(d)(2) of the Act and published pursuant to section 777(i)(1) of the Act and 19 CFR 351.218(f)(4).

Dated: March 10, 2022.
Lisa W. Wang,
Assistant Secretary for Enforcement and Compliance.

[FR Doc. 2022-05634 Filed 3-16-22; 8:45 am]

BILLING CODE 3510-DS-P